DEPARTMENT OF DEFENSE

Office of the Secretary

Meeting of the President's Security Policy Advisory Board; Action Notice

SUMMARY: The President's Security Policy Advisory Board has been established pursuant to Presidential Decision Directive/NSC-29, which was signed by the President on September 16, 1994.

The Board advises the President on proposed legislative initiatives and executive orders pertaining to U.S. security policy, procedures and practices as developed by the U.S. Security Policy Board, and functions as a federal advisory committee in accordance with the provisions of Pub. L. 92-463, the “Federal Advisory Committee Act.”

The President has appointed from the private sector, three of five Board members each with a prominent background and expertise related to security policy matters. General Larry Welch, USAF (Ret.) chairs the Board. Other members include: Rear Admiral Thomas Brooks, USN (Ret.) and Ms. Nina Stewart.

The next meeting of the Advisory Board will be held on 17 July, 2000 at the Crystal City Marriott Gateway Hotel, Arlington, VA from 2 p.m. to 5 p.m. The meeting will be open to the public.

For further information please contact Mr. Bill Isaacs telephone: 703-602-0815.

Dated: July 5, 2000.
Patricia L. Toppings,
Alternate OSD Federal Register Liaison Officer, Department of Defense.

[FR Doc. 00-17414 Filed 7-10-00; 8:45 am]

BILLING CODE 5001-10-M